COMMITTEE FOR PURCHASE FROM PEOPLE WHO ARE BLIND OR SEVERELY DISABLED

Procurement List Proposed Additions and Deletions

AGENCY: Committee for Purchase From People Who Are Blind or Severely Disabled.

ACTION: Proposed additions to and deletions from the Procurement List.

SUMMARY: The Committee is Proposing to add to the Procurement List products and a service to be furnished by nonprofit agencies employing persons who are blind or have other severe disabilities, and to delete services previously provided by such agencies.

Comments Must be Received on or Before: 6/7/2010.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List.

Comments on this certification are invited. Commenters should identify the statement(s) underlying the certification on which they are providing additional information.

End of Certification

The following products and service are proposed for addition to Procurement List for production by the nonprofit agencies listed:

Products

NSN: 8105-01-284-2923—Bag, Waste Receptacle

NPA: Portland Habilitation Center, Inc., Portland, OR

Contracting Activity: Federal Acquisition Service, GSA/FSS OFC SUP CTR—Paper Products, New York, NY

Coverage: B-list for the broad government requirement as aggregated by the General Services Administration.

ACU Sun Hat

NSN: 8415-01-579-9276—Multi Cam

NSN: 8415-01-579-9272—Multi Cam

NSN: 8415-01-579-9267—Multi Cam

NSN: 8415-01-579-9260—Multi Cam

NSN: 8415-01-579-9219—Multi Cam

NSN: 8415-01-579-9210—Multi Cam

NSN: 8415-01-579-9197—Multi Cam

NSN: 8415-01-579-9189—Multi Cam

NSN: 8415-01-579-9182—Multi Cam

NSN: 8415-01-579-9175—Multi Cam

NSN: 8415-01-579-9172—Multi Cam

NSN: 8415-01-579-9163—Multi Cam

NSN: 8415-01-579-9152—Multi Cam

NSN: 8415-01-579-9147—Multi Cam

NSN: 8415-01-519-8682—Universal

NSN: 8415-01-519-8681—Universal

NSN: 8415-01-519-8680—Universal

NSN: 8415-01-519-8678—Universal

NSN: 8415-01-519-8684—Universal

NSN: 8415-01-519-8687—Universal

NSN: 8415-01-519-8696—Universal

NSN: 8415-01-519-8698—Universal

NSN: 8415-01-519-8699—Universal

NSN: 8415-01-519-8702—Universal

NSN: 8415-01-519-8704—Universal

NSN: 8415-01-519-8705—Universal

NSN: 8415-01-519-8708—Universal

NSN: 8415-01-519-8706—Universal

NPA: Southeastern Kentucky Rehabilitation Industries, Inc., Corbin, KY

Contracting Activity: Dept of the Army, XR W2DF RDECOM ACQ CTR Natick, Natick, MA

Coverage: C-list for 100% of the requirements for the Dept of the Army, Natick, MA.

Tape, Correction, 4 PK

NSN: 7510-01-504-8940

NPA: Industries for the Blind, Inc., West Allis, WI

Contracting Activity: Federal Acquisition Service, GSA/FSS OFC SUP CTR— Paper Products, New York, NY

Coverage: A-List for the total government requirement as aggregated by the General Services Administration.

Envelope, Transparent

NSN: 7510-00-272-9804

NPA: Bestwork Industries for the Blind, Inc., Runnemede, NJ

Contracting Activity: Federal Acquisition Service, GSA/FSS OFC SUP CTR— paper products, New York, NY

Coverage: B-List for the broad government requirement as aggregated by the General Services Administration.

Service

Service Type/Location: Janitorial, Customs and Border Protection, B.P. Sector Maintenance, 398 E. Aurora Drive, El Centro, CA

NPA: ARC-Imperial Valley, El Centro, CA

Contracting Activity: Department of Homeland Security, Bureau of Customs and Border Protection, Office of Procurement, Washington, DC

Deletions

Regulatory Flexibility Act Certification

I certify that the following action will not have a significant impact on a substantial number of small entities. The major factors considered for this certification were:

1. If approved, the action will not result in additional reporting, recordkeeping or other compliance requirements for small entities.

2. If approved, the action may result in authorizing small entities to provide the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Medical Transcription, Veterans Affairs Medical Center, 7305 N. Military Trail, West Palm Beach, FL

NPA: Gulfstream Goodwill Industries, Inc., West Palm Beach, FL

Contracting Activity: Department of Veterans Affairs, NAC, Hines, IL

Service Type/Location: Janitorial/Custodial, Fort McPherson: U.S. Army Health Clinic, Buildings 100, 101, 105, 162, 163, 165, 170, 170A and 170B, Fort McPherson, GA

NPA: WORKTEC, Jonesboro, GA

Contracting Activity: Dept of the Army, XR W40M Natl Region Contract OFC, Washington, DC

Barry S. Lineback,
Director, Business Operations.

[FR Doc. 2010-10811 Filed 5-6-10; 8:45 am]

BILLING CODE 6353-01-P